DEPARTMENT OF STATE

[Public Notice 3479]

Bureau of Educational and Cultural Affairs Request for Grant Proposals: Fulbright Teacher Exchange Orientation Program

SUMMARY: The Office of Global Educational Programs, Fulbright Teacher Exchange Branch of the Bureau of Educational and Cultural Affairs announces an open competition for the Fulbright Teacher Exchange Orientation Program award. Public and private non-profit organizations meeting the provisions described in IRS regulation 26 CFR 1.501(c) may submit proposals to develop and administer August 2001 orientation activities in Washington, DC. Approximately 570 foreign and U.S. teachers and accompanying dependents will participate in the August 2001 orientation program.

The cooperating institution, through such orientation program activities as formal presentations and workshops, prepares program participants to teach (at the elementary, secondary or college level) in the educational system of another country. Approximately $300,000 are expected to be available for this activity.

The programming specifically strives: (a) To provide U.S. teachers with opportunities to meet face-to-face with their foreign exchange partners to discuss the details of their individual exchange assignments; (b) to provide participants with an understanding of the educational systems in which they will be teaching; and (c) to provide teachers with practical guidance on living in their countries of destination, with particular references to cross-cultural differences.

Program Information

The purpose of the August orientation workshop is to provide U.S. and foreign teachers and their spouses and dependents with a wide range of briefings, training, and discussions to assist them in preparing to function effectively in host schools and communities here and abroad in order to promote the mission of the Fulbright Program—mutual understanding. Partners meet face-to-face and share important information about their workplace and other particulars concerning their individual exchanges.

The workshop should focus on the teachers' need to understand education in the host country, the professional and personal aspects of the exchange and the many aspects of adjustment to living abroad, including cross cultural orientation.

Through the reciprocal exchange of teachers, administrators, and other school or college faculty, foreign participants in the Fulbright Teacher Exchange Program increase the international dimension of U.S. schools, while U.S. participants share American values abroad. Participating countries arrange for non-U.S. teachers to arrive at the U.S. orientation site.

Agenda

The agenda should recognize partner relationship building as a priority by scheduling joint sessions for U.S. and foreign partners in the morning, establishing training objectives for each session, and sequencing sessions to reinforce experiential learning. An equivalent of one day should be set aside for the U.S. and foreign teachers exchange partners to attend joint sessions and discuss their individual exchanges one-on-one. Sessions for U.S. and foreign teachers should include presentations on educational systems and cross-cultural matters.

A sample detailed agenda, which incorporates the following guidelines, is included in the POGI. The cooperating institution should structure its proposed agenda based on the sample, and propose speakers where appropriate.

Additional Activities

Time constraints should be considered; program sessions and cultural activities must not interfere with the partner joint one-on-one discussions for which an ample amount of time should be allowed.

Speakers

The cooperating institution, in consultation with the Bureau, will be required to identify and invite speakers and panelists to cover all sessions, and demonstrate its ability and willingness to identify such individuals drawing on its own resources as well as other resources beyond the organization. These include universities in the area, consulting groups, or other experts.

Speakers may include State Department specialists, staff from foreign counterpart agencies, university faculty, international and intercultural specialists, former U.S. and foreign exchange teachers, U.S. administrators associated with the program and others. The Bureau must approve speaker/panelist selections.

During the sessions set aside for administrative matters, Bureau staff will specifically designate State Department specialists and staff from foreign counterpart agencies to serve as resource people and speakers. As much as possible, presenters should incorporate Fulbright-specific situations, issues, and materials.

Services

In addition to developing the agenda and securing speakers, the cooperating institution will provide specific services in consultation with Bureau program officers. These will include arranging for on-site housing, meeting rooms, meals, child care, transportation, opening reception, etc. The POGI contains more specific information.

Website

The cooperating institution will be expected to design and maintain a website to increase communication with participants, and to support easy access for participants to information pertaining to the August orientation program. The website should serve as an efficient source of information as well as an administrative tool for functions such as registration.

The website should be clearly identified as a U.S. Department of State Fulbright Teacher Exchange Orientation Website. The orientation information, including agenda, should be posted well in advance and updated as needed.

Reports

The institution will be expected to design and distribute an evaluation form for the August orientation to be completed by the teachers. Such a form will cover program content, including sessions, as well as logistical arrangements such as housing, food, and general meeting facilities. The form must be cleared by Bureau prior to its use.

Materials

The cooperating institution will survey the literature of appropriate subject fields to determine materials of greatest potential value to teachers. If approved by the Bureau, recipient institution will purchase materials, up to $40 per teacher.

The institution will also compile other materials as directed by the Bureau. These may include materials on U.S. education, including current trends and initiatives, and materials on education in selected foreign countries. The POGI contains more specific information.

Note: The Bureau may also request that the cooperating institution arrange additional orientation and/or training, or workshop briefings for program participants and administrators, resource people, and organizers during the award period, depending on the availability of additional funds. The cooperating institution may also be asked to provide programming and other services to the Bureau including, but not limited to, peer committee chairpersons workshops, predeparture orientation activities, foreign and U.S. teacher debriefings, materials purchase and distribution, and the development of new program information, including materials and videos.

Programs must comply with J-1 visa regulations. Please refer to Solicitation Package for further information.

Budget Guidelines

Grants awarded to eligible organizations with less than four years of experience in conducting international exchange programs will be limited to $60,000.

Applicants must submit a comprehensive budget for the entire program. The FY 2001 orientation award will be approximately $300, 000. Grants are subject to the availability of committed funds for FY 2001.

There must be a summary budget as well as breakdowns reflecting both administrative and program budgets. Applicants may provide separate sub-budgets for each program component, phase, location, or activity to provide clarification.

Administrative costs should be kept low; this will be an important factor in the grant competition. Also, the ability to achieve cost-effectiveness within budget guidelines through cost-sharing will enhance competitive proposals. Please refer to the Solicitation Package for complete budget guidelines and formatting instructions.

Announcement Title and Number

All correspondence with the Bureau concerning this RFGP should reference the above title and number ECA/A/S/X-01-03.

FOR FURTHER INFORMATION CONTACT: United States Department of State, Bureau of Educational and Cultural Affairs, Office of Global Educational Programs, Fulbright Teacher Exchange Branch, State Annex 44, ECA/A/S/X, Room 349, 301 4th Street, SW, Washington, DC 20547; telephone: 202/619-4556, fax: 202/401-1433 to request a Solicitation Package.

The Solicitation Package contains detailed award criteria, required application forms, specific budget instructions, and standard guidelines for proposal preparation. Please specify Bureau Program Officer Ruta Chagnon; e-mail: RChagnon@pd.state.gov on all other inquiries and correspondence.

Please read the complete Federal Register announcement before sending inquiries or submitting proposals. Once the RFGP deadline has passed, Bureau staff may not discuss this competition with applicants until the proposal review process has been completed.

To Download a Solicitation Package Via Internet

The entire Solicitation Package may be downloaded from the Bureau's website at http://exchanges.state.gov/education/RFGPs. Please read all information before downloading.

Deadline for Proposals

All proposal copies must be received at the Bureau of Educational and Cultural Affairs by 5 p.m. Washington, DC time on January 18, 2001. Faxed documents will not be accepted at any time. Documents postmarked the due date but received on a later date will not be accepted. Each applicant must ensure that the proposals are received by the above deadline. Applicants must follow all instructions in the Solicitation Package. The original and eight copies of the application should be sent to: U.S. Department of State, SA-44, Bureau of Educational and Cultural Affairs, Ref.: ECA/01-03, Program Management, ECA/EX/PM, Room 534, 301 4th Street SW, Washington, DC 20547.

Diversity, Freedom and Democracy Guidelines

Pursuant to the Bureau's authorizing legislation, programs must maintain a nonpolitical character and should be balanced and representative of the diversity of American political, social, and cultural life. “Diversity” should be interpreted in the broadest sense and encompass differences including, but not limited to ethnicity, race, gender, religion, geographic location, socioeconomic status, and physical challenges.

Applicants are strongly encouraged to adhere to the advancement of this principle both in program administration and in program content. Please refer to the review criteria under the “Support for Diversity” section for specific suggestions on incorporating diversity into the total proposal.

Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

Review Process

The Bureau will acknowledge receipt of all proposals and will review them for technical eligibility. Proposals will be deemed ineligible if they do not fully adhere to the guidelines stated herein and in the Solicitation Package.

All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements.

Final funding decisions are at the discretion of the Department of State's Assistant Secretary for Educational and Cultural Affairs. Final technical authority for assistance awards (grants or cooperative agreements) resides with the Bureau's Grants Officer.

Review Criteria

Technically eligible applications will be competitively reviewed according to the criteria stated below. These criteria are not rank ordered and all carry equal weight in the proposal evaluation:

1. Quality and Clarity of Program Idea

Proposals should exhibit substance, precision, and relevance to Bureau mission. The work plan should demonstrate substantive undertakings and logistical capacity in terms of space utilization, timeliness, and efficient logistical management. Agenda and plan should adhere to the program overview and guidelines described above. Proposals should clearly demonstrate how the institution will meet the program's objectives and plan.

2. Support of Diversity

Proposals should demonstrate substantive support of the Bureau's policy on diversity by outlining relevant aspects of the institutional profile. Achievable and relevant features should be cited in both program administration and program content (orientation sessions, resource materials and choice of resources).

3. Institutional Capacity and Record/Ability

Proposed personnel and institutional resources should be adequate and appropriate to achieve the program or project's goals. Proposals should demonstrate institutional record of successful exchange programs, including responsible fiscal management, and full compliance with all reporting requirements for past Bureau grants as determined by the State Department's Contracts Office. The Bureau will consider the past performance of prior recipients and the demonstrated potential of new applicants.

4. Project Evaluation

Proposals should include a plan to evaluate the activities' success, both as the activities unfold and at the end of the program. A draft survey questionnaire or other technique plus description of a methodology to use to link outcomes to original project objectives are recommended.

5. Cost-Effectiveness

The overhead and administrative components of the proposal, including salaries and honoraria, should be kept as low as possible. All other items should be necessary and appropriate. Proposals should maximize cost-sharing through other private sector support as well as institutional direct funding contributions.

Authority

Overall grant making authority for this program is contained in the Mutual Educational and Cultural Exchange Act of 1961, Public Law 87-256, as amended, also known as the Fulbright-Hays Act. The purpose of the Act is “to enable the Government of the United States to increase mutual understanding between the people of the United States and the people of other countries to strengthen the ties which unite us with other nations by demonstrating the educational and cultural interests, developments, and achievements of the people of the United States and other nations and thus to assist in the development of friendly, sympathetic and peaceful relations between the United States and the other countries of the world.” The funding authority for the program above is provided through legislation of the Fulbright-Hays Act.

Notice

The terms and conditions published in this RFGP are binding and may not be modified by any Bureau representative. Explanatory information provided by the Bureau that contradicts published language will not be binding.

Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: November 17, 2000.
Helena Kane Finn,
Principal Deputy Assistant Secretary, Bureau of Educational and Cultural Affairs, Department of State.

[FR Doc. 00-30024 Filed 11-22-00; 8:45 am]

BILLING CODE 4710-05-U